DEPARTMENT OF THE INTERIOR

National Park Service

[NPS-WASO-NRNHL-25097; PPWOCRADI0, PCU00RP14.R50000]

National Register of Historic Places; Notification of Pending Nominations and Related Actions

AGENCY: National Park Service, Interior.

ACTION: Notice.

SUMMARY: The National Park Service is soliciting comments on the significance of properties nominated before February 17, 2018, for listing or related actions in the National Register of Historic Places.

DATES: Comments should be submitted by March 26, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 17, 2018. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Riverside County

Bates, Miles C., House, 73697 Santa Rosa Way, Palm Desert, SG100002238

Solano County

Westminster Presbyterian Church and Cemetery of Tremont, 8290 Tremont Rd., Dixon, SG100002240

IOWA

Woodbury County

Milwaukee Railroad Shops Historic District, 3400 Sioux River Rd., Sioux City, SG100002243

KANSAS

Morris County

Madonna of the Trai, (Santa Fe Trail MPS), 11 E. Main St., Council Grove, MP100002245

Saline County

Norton Apartments, The, 1111 & 1115 E Iron Ave., Salina, SG100002246

Sedgwick County

North Topeka Avenue—10th Street Historic District (Boundary Decrease), 1165, 1103, 1109, 1113, and 1108 N. Topeka Ave., Wichita, BC100002247,

Wilson County

Neodesha City Hall Building, 102 S. 4th St., Neodesha, SG100002248

LOUISIANA

Iberia Parish

Avery Island, LA 329, Avery Island, SG100002249

MONTANA

Hill County

Fort Assinniboine (Boundary Increase), Star Rt. 36, Box 43, Havre vicinity, BC100002250

NEW JERSEY

Burlington County

Woolman, John, Memorial House, 99 Branch St., Mount Holly Township, SG100002251

Cumberland County

Mauricetown Historic District, Roughly along Highland St., Commercial Township, SG100002252

NEW YORK

Erie County

Niagara Machine and Tool Works Factory, 631 & 683 Northland Ave., Buffalo, SG100002255

NORTH DAKOTA

Kidder County

(Federal Relief Construction in North Dakota, 1931-1943, MPS), Robinson Hall, 118 Main St., Robinson, MP100002253

TENNESSEE

Bradley County

Sanda Hosiery Mills, 130-140 Edwards St., Cleveland, SG100002258

Hamblen County

Bethel Methodist Church, 703 N. Cumberland St., Morristown, SG100002260

Shelby County

Oaklawn Garden, 7831 Poplar Pike, Germantown, SG100002262

Sterick North Garage and Hotel, 22 N B.B. King Blvd., Memphis, SG100002263

Tipton County

Bozo's Hot Pit Bar-B-Q, 342 US 70, Mason, SG100002264

Washington County

Wassom Farm, 276 Matthews Mill Rd., Telford vicinity, SG100002265

TEXAS

Cameron County

Brownsville Freight Depot and Warehouse District, Roughly bounded by former RR alignment, E Fronton, E 4th & E 9th Sts., Brownsville, SG100002266

Comal County

Honey Creek Historic District, Along State Park 31 & Bell Ranch Rd., Parcels 77128, 82609, 73632, 77109, 77257, 80607, 81637, 149474, Spring Branch vicinity, SG100002267

Guadalupe County

King-Woods Farmstead, 920 E Court St., Seguin, SG100002268

Harris County

Houston Post, 2410 Polk St., Houston, SG100002269

UTAH

Davis County

Ron's Phillips 66 Service Station, 273 N Main St., Centerville, SG100002273

Salt Lake County

Lee, Harold B. and Fern, House, 1208 South 900 West, Salt Lake City, SG100002276

WISCONSIN

Dane County

Luther Memorial Church, 1021 University Ave., Madison, SG100002284

A request for removal has been made for the following resources:

KANSAS

Barton County

Bridge No. 650—Federal Aid Highway System Bridge, (New Deal-Era Resources of Kansas MPS), NE 60 Ave, 1/12 mile south of NE 220 Rd, Beaver, OT08000612

UTAH

Box Elder County

Planing Mill of Brigham City Mercantile and Manufacturing Association, (Brigham City MPS), 547 E. Forest St., Brigham City, OT89000454

Cache County

Plant Auto Company Building, (Richmond, Utah MPS), 38 South 200 West (UT 91), Richmond, OT04001129

Hyrum Stake Tithing Office, (Tithing Offices and Granaries of the Mormon Church TR), 26 W. Main St., Hyrum, OT85000251

Morgan County

Morgan Elementary School, (Public Works Buildings TR), 75 N. One Hundred E, Morgan, OT86000737

Salt Lake County

Erickson Artillo Dairy Farmhouse, (Murray City, Utah MPS), 5419 S. 900 E., Murray, OT15000677

Summit County

Cunningham, Thomas, House, (Mining Boom Era Houses TR), 139 Main St., Park City, OT84002250

Utah County

Lehi Commercial and Savings Bank—Lehi Hospital, (Lehi, Utah MPS), 206 E. State St., Lehi, OT98001537

Wasatch County

Clotworthy-McMillan House, 261 S. Main St., Heber City, OT99000216

Weber County

Stevens, Sidney, House, 2593 N. 400 East, North Ogden, OT77001326

North Ogden Elementary School, (Public Works Buildings TR), 474 E. 2650 North, North Ogden, OT85000822

Downing Apartments, (Three-Story Apartment Buildings in Ogden, 1908-1928 MPS), 357-359 Twenty-Seventh St., Ogden, OT87002160

Rose Apartments, (Three-Story Apartment Buildings in Ogden, 1908-1928 MPS), 302-308 Twenty-Seventh St., Ogden, OT87002175

Additional documentation has been received for the following resources:

CALIFORNIA

San Francisco County

Coit Memorial Tower, 1 Telegraph Hill Blvd., San Francisco, AD07001468

NEW YORK

Erie County

Elmwood Historic District—West, 285 Norwood Ave., Buffalo, AD12000996

Otsego County

Glimmerglass Historic District, Otsego Lake and Environs, Cooperstown vicinity, AD99001136

NORTH DAKOTA

Ward County

Minot Industrial Historic District, (Minot MRA), Roughly bounded by Souris R., Burlington Northern RR, 1st Ave., Front & Broadway Sts., Minot, AD86002818

TENNESSEE

Davidson County

Travellers' Rest, Franklin Rd., Nashville, AD69000179

Nomination submitted by Federal Preservation Officer:

The State Historic Preservation Officer reviewed the following nomination and responded to the Federal Preservation Officer within 45 days of receipt of the nomination and supports listing the property in the National Register of Historic Places.

HAWAII

Kauai County

US Post Office—Lihue, 4441 Rice St., Lihue, AD89002011

Authority: 60.13 of 36 CFR part 60.

Dated: February 21, 2018.
Julie H. Ernstein,
Acting Chief, National Register of Historic Places/National Historic Landmarks Program.

[FR Doc. 2018-04736 Filed 3-8-18; 8:45 am]

BILLING CODE 4312-52-P